DEPARTMENT OF THE INTERIOR

Bureau of Land Management

Notice of Intent To Prepare a Supplemental Environmental Impact Statement for the Alpine Satellite Development Plan for the Proposed Greater Mooses Tooth Unit Development Project, AK

AGENCY: Bureau of Land Management, Interior.

ACTION: Notice of Intent.

SUMMARY: In accordance with the National Environmental Policy Act of 1969, as amended (NEPA), the Federal Land Policy and Management Act of 1976, as amended, and the Alaska National Lands Interest Conservation Act of 1980 (ANILCA), as amended, the Bureau of Land Management (BLM) Arctic Field Office, Fairbanks, Alaska, intends to prepare a Supplemental Environmental Impact Statement (EIS) for development of petroleum resources in the Greater Mooses Tooth (GMT) Unit, at the proposed GMT1 drilling and production pad. The Supplemental EIS is being prepared for the limited purpose of supplementing the Alpine Satellite Development Plan (ASDP) Final EIS, dated September 2004, regarding the establishment of satellite oil production pads and associated infrastructure within the Alpine field.

DATES: Scoping comments may be submitted in writing until September 6, 2013. At this time, the BLM has determined not to hold public scoping meetings. If the BLM determines, after consultation with cooperating agencies, that public scoping meetings are appropriate, the BLM will schedule these meetings and provide appropriate public notice. The BLM will provide additional opportunities for public participation upon publication of the Draft Supplementary EIS, including public meetings and a public comment period. Any Federal, State, local agencies, or tribes that are interested in serving as a cooperating agency for the development of the Supplemental EIS are asked to submit such requests to the BLM by September 6, 2013.

ADDRESSES: You may submit comments on issues related to the proposed GMT1 Development Project by any of the following methods:

• Email: BLM_AK_AKSO_GMT_1_Comments @blm.gov.

• Fax: 907-271-5479

• Mail: GMT1 Scoping Comments, 222 West 7th Avenue, Stop #13, Anchorage, AK 99513.

Documents pertinent to this proposal may be examined at the Fairbanks District Office Public Room, 1150 University Avenue, Fairbanks, AK 99709; and the Alaska State Office Public Room, 222 West 7th Avenue, Anchorage, AK 99513.

FOR FURTHER INFORMATION CONTACT: Bridget Psarianos, Project Lead; telephone: 907-271-4208; address: 222 West 7th Avenue, Stop #13, Anchorage, AK 99513. Contact Ms. Psarianos if you wish to add your name to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On July 22, 2013, ConocoPhillips, Alaska, Inc. (CPAI) submitted an application with the BLM for issuance of a right-of-way grant and related authorizations to construct, operate, and maintain a drill site, access road, pipelines, and ancillary facilities to support development of petroleum resources within the GMT Unit. The proposed project is located in the National Petroleum Reserve in Alaska (NPR-A). The GMT1 project would facilitate the first production of oil and gas from Federal lands in the NPR-A, which is located on Alaska's North Slope and encompasses approximately 22.1 million acres of public land. The BLM holds surface ownership of the drill site location, and the majority of the infield road and pipeline route. CPAI proposes placement of fill material on 73.1 acres to construct the GMT1 drill site, an approximately 7.8-mile-long gravel access road from the CD-5 pad currently under development to the GMT1 drill site including a spur to a pipeline valve, pipelines, bridge abutment, communication equipment, and power lines for oil and gas production. The proposed GMT1 site is approximately 14 miles west of the ConocoPhillips-operated Alpine Central Facility (CD-1). Oil, gas, and water produced from the reservoir would be carried via pipeline to CD-1 for processing. Sales quality crude would be transported from CD-1 via pipeline to the Trans-Alaska Pipeline. Gravel required for construction of the drill site and access road would be obtained from the Clover Material Source, also located within the NPR-A on BLM-managed lands. The proposed drill site would be operated and maintained by Alpine staff and supported using CD-1 infrastructure. The proposed GMT1 pad would be approximately 11.8 acres, and may consist of approximately 33 wells.

The purpose of the Supplemental EIS is to evaluate any relevant new circumstances and information which have arisen since the ASDP Final EIS was issued in September 2004, as well as to address any changes to CPAI's proposed development plan for GMT1. The GMT1 project was referred to as CD-6 in the ASDP Final EIS.

New information includes multi-year studies on hydrology, birds, and caribou, a regional climate change assessment for NPR-A, and more information on the material site (potential gravel source). Earlier this year the BLM adopted a new Integrated Activity Plan (IAP) for NPR-A, which contains new protective measures. Additionally, the polar bear has since been listed as threatened under the Endangered Species Act and critical habitat has been proposed. The currently proposed GMT1 Project is very similar to the project approved in the November 2004 Record of Decision for the ASDP Final EIS, with several notable changes, which include: A relocated drill site and reduced road and pipeline length as a result of the drill site relocation; increased length of the Ublutuoch River bridge; reduced Clover material source; an additional 3.3 miles of ancillary pipeline from CD1 to the pipeline tie-in north of CD4; and a redesigned pipeline to provide space for a future pipeline of up to 24-inches in diameter.

At present, the BLM has identified the following preliminary issues for evaluation in the Supplemental EIS: Air quality and climate change impacts; biological resources, including special status species; cultural resources; geology and soils; hydrology and water quality; and reasonably foreseeable future activities, such as a drilling program at proposed GMT2, which was also evaluated as part of the 2004 ASDP EIS.

The BLM will use NEPA public participation processes to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Federally Recognized Indian tribes on a government-to-government basis in accordance with Executive Order 13175 and other policies. Tribal concerns, including impacts on Indian trust assets and potential impacts to cultural resources, will be given due consideration. Federal, State, and local agencies, and tribes that may be interested in or affected by the proposed action that the BLM is evaluating, are invited to participate in the development of the environmental analysis as a cooperating agency.

Authority: 40 CFR 1502.9, 43 CFR part 2880.

Ted Murphy,
Acting State Director.

[FR Doc. 2013-20030 Filed 8-15-13; 8:45 am]

BILLING CODE 4310-JA-P